DEPARTMENT OF TRANSPORTATION

Office of the Secretary

49 CFR Part 71

[OST Docket No. 2005-22114]

RIN 2105-AD53

Standard Time Zone Boundary in the State of Indiana

AGENCY: Office of the Secretary (OST), Department of Transportation (DOT).

ACTION: Notice of proposed rulemaking.

SUMMARY: DOT tentatively proposes to relocate the time zone boundary in Indiana to move St. Joseph, Starke, Knox, Pike, and Perry Counties from the eastern time zone to the central time zone at the request of the County Commissioners. We are tentatively not proposing to change the time zone boundary to move Marshall, Pulaski, Fulton, Benton, White, Carroll, Cass, Vermillion, Sullivan, Daviess, Dubois, Martin, and Lawrence Counties from the eastern time zone to the central time zone based on the petitions from the commissioners in these counties. If additional information is provided that indicates that the time zone boundary should be drawn differently, either to include counties currently excluded or to exclude counties that are currently included in this proposal, we will make the change at the final rule stage of this proceeding.

DATES: Any County Commissioners from the counties that have submitted petitions who wish to provide additional data to justify a change from the eastern time zone to the central time zone should do so by November 10, 2005. Other comments should be received by November 30, 2005 to be assured of consideration. Comments received after that date will be considered to the extent practicable. If the time zone boundary is changed as a result of this rulemaking, the effective date would be no earlier than 2 a.m. EST Sunday, April 2, 2006, which is the changeover from standard time to daylight saving time.

ADDRESSES: You may submit comments by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number (OST Docket Number 2005-22114) or Regulatory Identification Number (RIN) (2105-AD53) for this rulemaking. Note that all comments received will be posted without change to http://dms.dot.gov including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

Public Hearings: In addition to the submission of written comments, an opportunity for oral comments will be provided at four public hearings in Jasper, Logansport, South Bend, and Terre Haute. These hearings will be chaired by a representative of DOT in November. We will publish the date and time in a separate document that will be posted in the docket and published in the Federal Register.

The hearings will be informal and will be tape-recorded for inclusion in the docket. The DOT representative will provide an opportunity to speak for all those wishing to do so, to the greatest extent possible. The hearing locations will be accessible for persons with disabilities. If you need a sign language interpreter, please let us know no later than one week before the hearing.

FOR FURTHER INFORMATION CONTACT: Joanne Petrie, Office of the Assistant General Counsel for Regulation and Enforcement, U.S. Department of Transportation, Room 10424, 400 Seventh Street, SW., Washington, DC 20590, indianatime@dot.gov; (202) 366-9306.

SUPPLEMENTARY INFORMATION:

Current Indiana Time Observance

Under Federal law, 82 Indiana counties are in the eastern time zone and 10 are in the central time zone. The central time zone counties include five in the northwest (Lake, Porter, La Porte, Newton, and Jasper) and five in the southwest (Posey, Vanderburgh, Warrick, Spencer and Gibson). The remaining 82 counties are in the eastern time zone. Neighboring States observe both eastern and central time. Illinois and western Kentucky observe central time, while eastern Kentucky, Ohio, and the portion of Michigan adjoining Indiana observe eastern time.

Federal law provides that it is up to an individual State to decide whether or not to observe daylight saving time. Generally, a State must choose to observe, or not observe, across the entire State. The one exception is that, if a State is in more than one time zone, a “split” observance is permitted. Under this scenario, all of a State that is in one time zone may observe daylight saving time, while the remainder of the State in the different time zone does not. Under Indiana law, for many years, the central time zone portion of the State has observed daylight saving time, while the eastern time zone portion of the State has not observed daylight saving time.

The effect of daylight saving time is the equivalent of moving one time zone to the east. This means that, by remaining on eastern standard time year-round, the eastern time zone portion of Indiana has been on the same time as New York in the winter and on the same clock time as Chicago in the summer. The impact of the State legislation (discussed in more detail below) to observe daylight saving time beginning in 2006 is that, in the summer, the time of sunrise and sunset on eastern daylight saving time will be an hour later than it currently is under year-round eastern standard time. There will be no change in the sunrise and sunset times during the winter when eastern standard time will continue to be observed.

Statutory Requirements

Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.”

DOT Procedures To Change a Time Zone Boundary

The Department has typically used a set of procedures to address time zone issues. Under these DOT procedures, the Department will generally begin a rulemaking proceeding if the highest elected officials in the area provide adequate supporting data for the proposed change. We ask that the petition include, or be accompanied by, detailed information supporting the requesting party's contention that the requested change would serve the convenience of commerce. The principal standard for deciding whether to change a time zone is defined very broadly to include consideration of all the impacts upon a community of a change in its standard of time. We also ask that the supporting documentation address, at a minimum, each of the following questions in as much detail as possible.

1. From where do businesses in the community get their supplies, and to where do they ship their goods or products?

2. From where does the community receive television and radio broadcasts?

3. Where are the newspapers published that serve the community?

4. From where does the community get its bus and passenger rail services; if there is no scheduled bus or passenger rail service in the community to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

In addition, we consider any other information that the county or local officials believe to be relevant to the proceeding.

Indiana's Decision To Observe Daylight Saving Time

In 2005, the Indiana General Assembly adopted legislation (Indiana Senate Enrolled Act 127 or “the Indiana Act”) providing that the entire State of Indiana will begin to observe daylight saving time beginning in 2006. In addition, the Indiana Act addressed the issue of changing the location of the boundary between the eastern and central time zones. The Indiana Act stated that, “[T]he [S]tate supports the county executive of any county that seeks to change the time zone in which the county is located under the procedures established by Federal Law.” The Indiana Act also provided that, “The governor and the general assembly hereby petition the United States Department of Transportation to initiate proceedings under the Uniform Time Act of 1966 to hold hearings in the appropriate locations in Indiana on the issue of the location of the boundary between the Central Time Zone and the Eastern Time Zone in Indiana.” Finally, the Indiana Act requested that DOT refrain from changing the time zone of any county currently located within the central time zone and five counties near Cincinnati and Louisville.

On July 15, 2005, Secretary Mineta sent a letter to Governor Daniels responding to this legislation and letters from the Governor. The letter noted that it is our normal practice, in implementing our responsibilities under the Uniform Time Act with respect to the location of time zone boundaries, to take action on specific requests for change in the time zone boundaries for a particular jurisdiction from the elected officials of that jurisdiction. After receiving a request, we review it and the supporting data to then determine whether the issuance of an NPRM is justified. Once justified, we issue the NPRM to propose a change.

DOT Notice Inviting Petitions

On August 17, 2005, DOT published a notice in the Federal Register inviting county and local officials in Indiana that wish to change their current time zone in response to Indiana Senate Enrolled Act 127 to notify DOT of their request for a change by September 16, 2005 and to provide data in response to the questions above. In addition, it announced the opening of an internet-accessible, public docket to receive any petitions and other relevant documents concerning the appropriate placement of the time zone boundary in the State of Indiana.

Petitions Received

We received nineteen petitions from counties asking to be changed from the eastern time zone to the central time zone. One of the counties (Fountain County) subsequently withdrew its request.

In general, the petitions are clustered in the northwest (St. Joseph, Starke, Marshall, Pulaski, Fulton, Benton, White, Carroll and Cass Counties) and the southwest (Sullivan, Knox, Daviess, Martin, Lawrence, Pike, Dubois and Perry Counties). In the central portion of western Indiana, only Vermillion County asked to be changed to central time.

The amount of data provided in the petitions varied substantially among counties. Under our normal procedures, we do not take action unless the county makes a clear showing that the proposed change would meet the statutory standard. We recognize, however, that this is an unusual case because of the number of counties involved, their relationship to each other and to other neighboring counties, and the circumstances leading up to these petitions. Although the proposed counties have provided adequate supporting data to justify the issuance of an NPRM, we will critically review contrary and supporting information that may be provided by others, and any other related comments and data prior to issuing a final rule.

Other Communications From Local Officials

We also received a number of letters from counties and cities advising us that they had considered whether to petition for a change and, at this time at least, were satisfied with their current time zone boundary or wished to stay in the same time zone as Indianapolis, which is located in Marion County and is in the eastern time zone. Those counties included Warren, Monroe, Orange, Steuben, Noble, Hendricks, Jefferson, Crawford and Jay. The cities of Whiting, Hebron, and Munster also filed letters expressing satisfaction with their current time zone.

Comments to the Docket

There are currently nearly 600 entries to the docket. In addition, we have received hundreds of calls, questions, and e-mails on the Indiana time zone issue. Many comments were filed by Chambers of Commerce, businesses, various community associations and interest groups, and individuals. The commenters suggested a wide variety of approaches including placing all of the State in the eastern time zone, placing all of the State in the central time zone, and maintaining the current time zone boundaries. Some of the commenters included data on sunrise/sunset, economic development and trends, commuting patterns, school districts and institutions of higher learning, transportation services, the location of cultural and recreational activities, and a wide variety of other factors. Other commenters shared their personal preferences and their sense of which time zone that they most closely associate with.

The focus of this stage of the proceeding to date has been on the petitions by the counties. At the next stage, however, we will carefully review the petitions submitted in light of the comments received and data gathered during the next stage of this rulemaking process. None of the counties where we have tentatively proposed to relocate the time zone boundaries and none of the counties where we have tentatively decided not to propose a change should regard their petitions as resolved, nor should they rely on the current proposal, which very well may change when all the information is available and a final rule is issued.

DOT Determination

Based on the petitions and the supporting data filed by the County Commissioners, we find that St. Joseph, Starke, Knox, Pike, and Perry Counties have provided enough information to justify proposing to change those counties from the eastern to central time zone. As noted above, we have received and will review the comments to the docket already received. We are now providing a further opportunity to others to provide information that might refute or support the basis provided to date, to enable a final decision. We are requesting comments on whether to make the change in any, or all, of the remaining 13 counties that petitioned for change and on whether we should not adopt any or all of the proposed changes. If supplementary information is filed by the County Commissioners supporting the inclusion of additional counties and it is not otherwise refuted, an appropriate change will be made in the final rule. We invite representatives from any of the counties that filed petitions to submit additional justification to the public docket. In order to allow the public time to comment on any additional information that may be submitted by the counties, we request any further submissions to be sent to the public docket by November 10, 2005. In addition, we ask that any county that submits additional information to the public docket present this information at a public hearing chaired by a DOT representative.

St. Joseph, Starke, Knox, Pike, and Perry County addressed all, or virtually all, of the factors that we consider in these proceedings and made a reasonable case that changing to the central time zone would serve “the convenience of commerce.” In addition, we considered each county's geographic location compared to the current time zone boundary and how closely interrelated neighboring counties appeared to be. The specific reasons for granting the petitions for each of these counties differ based on the facts specific to each case. For example, St. Joseph County filed detailed information addressing each factor, showing how changing to the central time zone would be beneficial for the community. Starke County had been in the central time zone and it presented evidence of close ties to areas in the central time zone. Based on the evidence presented, Pike County appears to be closely tied to Evansville for many goods, services, and activities. Knox and Perry County provided information on their commuting patterns to the central zone, and reliance on Evansville for a majority of their communications and transportation services.

We have not included all the counties that petitioned, for a number of reasons. Some presented almost no arguments or supporting data on why it would be appropriate to change the time zone boundary. Others addressed all, or most, factors but acknowledged that a significant connection with the eastern time zone. A number of counties focused on the potential change to their neighbors' time zone, and seemed to be more concerned with staying in the same time zone as their neighbors than in changing their time zone. In other cases, the counties seemed to be equally connected to the eastern and central time zones. Traditionally, we have been reluctant to create “islands of time” by placing one county in a different time zone from all its neighboring counties in the State; we consider the affect on economic, cultural, social, and civic activities between neighboring counties in making decisions. Finally, we looked at the distance each county is from the current time zone boundary, the proximity of each county to important metropolitan areas, and where the major roads and bridges are located. We wish to strongly emphasize that our proposal is a tentative decision and is subject to change based on additional data reviewed in the next stage of this proceeding.

In our experience, time zone boundary changes can be extremely disruptive to a community and, therefore, should not be made without careful consideration. Our proposal is intended to minimize disruption and to allow communities to fully assess the impact of potential changes to the time zone boundaries of their neighbors and daylight saving time observance beginning in April 2006. If comments to the docket or at the hearings provide additional information or stronger arguments for a change, we will make the appropriate changes in the final rule. We are happy to work with county representatives to provide guidance on the kinds of additional supporting data that would be most useful in making a case for a change of time zone boundary. If a county is not included in any final rule that may be issued in this proceeding, governmental representatives are free to petition DOT in the future to make further changes to the time zone boundary.

Request for Comments

To aid us in our consideration of whether a time zone change would be “for the convenience of commerce,” we ask for comments on the impact on commerce of a change in time zone and whether a new time zone would improve the convenience of commerce. The comments should address the impact on such things as economic, cultural, social, and civic activities and how time zone changes affect businesses, communication, transportation, and education. The comments should be as detailed as possible, providing the basis of the information including factual data or surveys. For example, with regard to major bus, rail, and air transportation, information such as the average time it takes for an average county resident to travel to a transportation terminal or the average distance to the terminal for a county resident would be useful. With regard to the impact of the time zone on education, if a school district crosses county lines, the number of students in each county in that district would be helpful. Information on school activities such as sporting events or academic competitions that take place in other counties or locations that are not on the same time zone as the school district would also be useful. Similar information on community colleges could also be beneficial. Finally, we would appreciate information on how the different time zones affect the students and the schools.

We specifically invite comment from neighboring Indiana counties, and counties in Michigan, Kentucky, Ohio, and Illinois that may also be impacted by any change. For example, we are aware of the importance of South Bend to its neighboring communities in Indiana and Michigan and specifically request comment on potential effects to those communities to the north, east, and south if St. Joseph County is changed at the final rule stage and placed in a different time zone from the greater Michiana area as additional information could change our tentative decision.

Although the five counties have submitted sufficient information to begin the rulemaking process, the decision whether actually to make the change will also consider information received at the hearings or submitted in writing to the docket. Persons supporting or opposing the change should not assume that the change will be made merely because DOT is making the proposal. The Department here issues no opinion on the ultimate merits of the counties' requests. Our decision in the final rule will be made on the basis of information developed during the entire rulemaking proceeding, including the petitions.

Impact on Observance of Daylight Saving Time

As noted above, this time zone proposal does not affect the observance of daylight saving time. Under the Uniform Time Act of 1966, as amended, the standard time of each time zone in the United States is advanced one hour from 2 a.m. on the first Sunday in April until 2 a.m. on the last Sunday in October, except in any State that has, by law, exempted itself from this observance. Under recently enacted federal legislation, beginning in 2007, daylight saving time will begin the second Sunday in March and end the first Sunday in November.

Comment Period

We are providing 30 days for public comments in this proceeding. Although we normally provide 60 days for public comments on proposed rules, we believe that 30 days is an adequate public comment period in this instance. It is important to resolve this rulemaking expeditiously so that we can provide ample notice if changes to the time zone boundaries are adopted. Since the introduction and passage of the State legislation, the time zone boundary issue has been actively discussed and analyzed. In this regard, we expect that 30 days is adequate time to gather the necessary data, which is based on currently available information, or share personal preferences. Because of the number of counties under consideration, please identify which county or counties you are commenting on.

Regulatory Analysis & Notices

This proposed rule is not a “significant regulatory action” under section 3(f) of Executive Order 12866 and does not require an assessment of potential costs and benefits under section 6(a)(3) of that Order. It has not been reviewed by the Office of Management and Budget under that Order. It is not “significant” under the regulatory policies and procedures of the Department of Transportation (44 FR 11040; February 26, 1979). We expect the economic impact of this proposed rule to be so minimal that a full Regulatory Evaluation under paragraph 10e of the regulatory policies and procedures of DOT is unnecessary. The rule primarily affects the convenience of individuals in scheduling activities. By itself, it imposes no direct costs. Its impact is localized in nature.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000. This proposal, if adopted, would primarily affect individuals and their scheduling of activities. Although it would affect some small businesses, not-for-profits and, perhaps, a number of small governmental jurisdictions, it would not be a substantial number. In addition, the change should have little, if any, economic impact.

Therefore, I certify under 5 U.S.C. 605(b) that this proposed rule would not, if adopted, have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please call Joanne Petrie at (202) 366-9315.

Collection of Information

This proposed rule would call for no new collection of information under the Paperwork Reduction Act of 1995 (44 U.S.C. 3501-3520).

Federalism

We have analyzed this proposed rule under E.O. 12612 and have determined that this rule does not have sufficient implications for federalism to warrant the preparation of a Federalism Assessment.

Unfunded Mandates

The Unfunded Mandates Reform Act of 1995 (2 U.S.C. 1531-1538) and E.O. 12875, Enhancing the Intergovernmental Partnership, (58 FR 58093; October 28, 1993) govern the issuance of Federal regulations that impose unfunded mandates. An unfunded mandate is a regulation that requires a State, local, or tribal government or the private sector to incur direct costs without the Federal Government's having first provided the funds to pay those costs. This proposed rule would not impose an unfunded mandate.

Taking of Private Property

This proposed rule would not result in a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

This rulemaking is not a major Federal action significantly affecting the quality of the human environment under the National Environmental Policy Act and, therefore, an environmental impact statement is not required.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 71

Time zones.

For the reasons discussed above, the Office of the Secretary proposes to amend Title 49 part 71 to read as follows:

PART 71—STANDARD TIME ZONE BOUNDARIES

1. The authority citation for Part 71 continues to read as follows:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; 49 CFR 159(a), unless otherwise noted.

2. Paragraph (b) of § 71.5, Boundary line between eastern and central zones, is revised to read as follows:

§ 71.5 Boundary line between eastern and central zones.

* * * * *

(b) Indiana-Illinois. From the junction of the western boundary of the State of Michigan with the northern boundary of the State of Indiana easterly along the northern boundary of the State of Indiana to the east line of St. Joseph County; thence south along the east line of St. Joseph County to the border with Marshall County; thence west along the north line of Marshall County; thence south along the west line of Marshall County; thence west along the south line of Starke County; thence south along the east line of Jasper County; thence south and west along the south line of Jasper County; thence west along the south line of Newton County to the intersection of Indiana-Illinois border; thence south along the Indiana-Illinois border to the intersection with the northwest corner of Knox County; thence east along the north line of Knox County; thence south and west along the east line of Knox County to the intersection with Pike County; thence easterly along the northeast line of Pike County; thence south along the east line of Pike County; thence east along the south line of Dubois County; thence north and east along the line between Dubois and Perry County; thence east and south along the northeast line of Perry County to the border of Indiana and Kentucky.

Issued in Washington, DC on October 25, 2005.
Jeffrey A. Rosen,
General Counsel.

[FR Doc. 05-21606 Filed 10-26-05; 4:59 pm]

BILLING CODE 4910-02-P